DEPARTMENT OF DEFENSE

Department of the Army

Privacy Act of 1974; System of Records

AGENCY: Department of the Army, DoD.

ACTION: Notice to amend systems of records.

SUMMARY: The Department of the Army is amending a system of records notice in its existing inventory of record systems subject to the Privacy Act of 1974, (5 U.S.C. 552a), as amended.

DATES: This proposed action will be effective without further notice on April 2, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: February 22, 2001.
L.M. Bynum,
Alternate OSD Federal Register Liaison Officer, Department of Defense.

A0001-20 SALL

System Name:

Congressional Inquiry File (March 2, 1998, 63 FR 10205).

Changes:

* * * * *

Authority for Maintenance of the System:

Delete entry and replace with “10 U.S.C 1034, Protected Communications; Prohibition of Retaliatory Personnel Actions; 10 U.S.C.3013, Secretary of the Army and E.O. 9397 (SSN).”

* * * * *

Storage:

Delete entry and replace with “Electronic storage media on local area network.”

Retrievability:

Delete entry and replace with “Requester’s name or Social Security Number (when available), date of correspondence, Congress-member's name.”

Safeguards:

Delete entry and replace with ‘Records are maintained on a password protected network accessible to authorized personnel only.”

* * * * *

A0001-20 SALL

System Name:

Congressional Inquiry File.

System Location:

Chief, Legislative Liaison, Office of the Secretary of the Army, 1600 Army Pentagon, Washington, DC 20310-1600.

Categories of Individuals Covered by the System:

Any citizen who writes to a Member of Congress requesting that the Member solicits information from the Department of the Army on their behalf.

Categories of Records in the System:

Individual’s request to the Member of Congress, the Member's inquiry to the Army, the Army's response, and relevant supporting documents.

Authority for Maintenance of the System:

10 U.S.C 1034, Protected Communications; Prohibition of Retaliatory Personnel Actions; 10 U.S.C.3013, Secretary of the Army and E.O. 9397(SSN).

Purpose(s):

To conduct necessary research and/or investigations so as to provide information responsive to Congressional inquiries.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and Practices for Storing, Retrieving, Accessing, Retaining, and Disposing of Records in the System:

Storage:

Electronic storage media on local area network.

Retrievability:

Requester's name or Social Security Number (when available), date of correspondence, Congress-member's name.

Safeguards:

Records are maintained on a password protected network accessible to authorized personnel only.

Retention and Disposal:

Information on congressional inquiries on all matters within the scope and activity of the Department of the Army are maintained for two years, then destroyed.

System Manager(s) and Address:

Chief, Legislative Liaison, Office of the Secretary of the Army, 1600 Army Pentagon, Washington, DC 20310-1600.

Notification Procedure:

Individuals seeking to determine if information about themselves is contained in this record system should address written inquiries to the Chief, Legislative Liaison, Office of the Secretary of the Army, 1600 Army Pentagon, Washington, DC 20310-1600; or to the legislative liaison and control officer at the Army Staff or field office known to have the record. Official mailing addresses are published as an appendix to the Army's compilation of systems of records notices.

For verification purposes, individual should provide the full name, current address and telephone number, and sufficient detail to permit locating the record.

Record Access Procedures:

Individuals seeking access to information about themselves contained in this system should address written inquiries to the Chief, Legislative Liaison, Office of the Secretary of the Army, 1600 Army Pentagon, Washington, DC 20310-1600; or to the legislative liaison and control officer at the Army Staff or field office known to have the record. Official mailing addresses are published as an appendix to the Army's compilation of systems of records notices.

For verification purposes, individual should provide the full name, current address and telephone number, and sufficient detail to permit locating the record.

Contesting Record Procedures:

The Army's rules for accessing records, and for contesting contents and appealing initial agency determinations are contained in Army Regulation 340-21; 32 CFR part 505; or may be obtained from the system manager.

Record Source Categories:

From the individual Member of Congress; Army records and reports.

Exemptions claimed for the system:

None.

[FR Doc. 01-5030 Filed 3-1-01; 8:45 am]

BILLING CODE 5001-10-U